DEPARTMENT OF AGRICULTURE

Agricultural Research Service

Notice of the Scientific Review Panel at the National Animal Disease Center, Ames, IA

AGENCY: Office of the Under Secretary, Research, Education, and Economics, Agricultural Research Service (ARS).

ACTION: Notice of meeting.

SUMMARY: The United States Department of Agriculture announces a conference call meeting of the Scientific Review Panel at the National Animal Disease Center, Ames, Iowa.

DATES: November 3, 2006, 8 a.m. to 11 a.m. Central Time.

ADDRESSES: City Council Chambers, City Hall, 515 Clark Avenue, Ames, Iowa 50010 (access to a monitor of the conference call).

FOR FURTHER INFORMATION CONTACT: Steven Shafer, Midwest Area Director, USDA-ARS, 1815 North University Street, Peoria, Illinois 61604; Telephone (309) 681-6602; Fax (309) 681-6684; E-mail sshafer@mwa.ars.usda.gov.

SUPPLEMENTARY INFORMATION: On May 4, 2006, the City of Ames, Iowa, received allegations that wastes from areas at the National Animal Disease Center (NADC) with animals challenged with prions were not properly treated prior to discharge to the City wastewater plant. USDA, in cooperation with the City of Ames, has convened an expert panel to review scientific information about deactivation of prions and assess practices used at NADC to treat liquid wastes from areas where animals with prions are housed and handled that enter the Ames wastewater treatment system. (Note: For the purposes of this panel and its review, prions are defined as specific proteins that are abnormally shaped and can cause transmissible diseases associated with the allegations). The panel had its first meeting on August 23, 2006, at the Ames City Hall; preparatory work on August 23, August 24, and September 20; and a conference call meeting on October 18, 2006. A conference call meeting on November 3, 2006, will continue implementation of the panel's charge to evaluate four main issues related to the handling and disposal of potentially prion-contaminated materials in wastewater from the NADC: (1) Identify scientifically accepted methods for effectively destroying prions; (2) Assess the concerns raised regarding NADC's current and past methods for the destruction of prions; (3) Determine the risk posed to humans and the environment from the current, as well as previous, methods for the destruction of prions utilized at NADC; and (4) If remediation is needed, provide scientifically sound approaches for corrective action(s) that may be taken. Final conclusions of the review will be developed during a meeting at a later date, also to be announced. At the conclusion of its review, the panel will prepare a written report that documents the panel's findings for the four main issues being evaluated. The meeting on November 3 will be held by conference call. The public may monitor the panel's discussion via a speaker phone in the Ames City Hall's Council Chamber. No oral comments will be accepted from the public during the call, however, written public comment received by letter, fax, or e-mail to the contact person named above by close of business on Friday, November 10, 2006, will be provided to the panel members. Although access to the conference call monitor will be open to the public, space is limited. If you want to be assured of a seat at this meeting, you must register by contacting the contact person named above at least 5 days prior to the meeting. Please provide your name, title, business affiliation, address, and telephone and fax numbers when you register. If you require a sign language interpreter or other special accommodation due to disability, please indicate those needs at the time of registration. Pre-registrations will be limited to 80 people; others may be able to attend on a space-available basis.

Dated: October 24, 2006.
Caird E. Rexroad, Jr.,
Associate Administrator, Agricultural Research Service.

[FR Doc. E6-18189 Filed 10-27-06; 8:45 am]

BILLING CODE 3410-02-P